DEPARTMENT OF TRANSPORTATION

Office of the Secretary

Notice of Applications for Certificates of Public Convenience and Necessity and Foreign Air Carrier Permits Filed Under Subpart B (Formerly Subpart Q) During the Week Ending February 7, 2014

The following Applications for Certificates of Public Convenience and Necessity and Foreign Air Carrier Permits were filed under Subpart B (formerly Subpart Q) of the Department of Transportation's Procedural Regulations (See 14 CFR 302. 201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2015-0012.

Date Filed: February 2, 2015.

Due Date for Answers, Conforming Applications, or Motion to Modify Scope: February 23, 2015.

Description: Application of T'way Air Co., Ltd. (“T'way Air”) requesting a foreign air carrier permit and an exemption authorizing T'way Air to engage in: (1) Scheduled foreign air transportation of persons, property and mail from points behind the Republic of Korea, via the Republic of Korea and intermediate points, to a point or points in the United States and beyond; (2) charter foreign air transportation of persons, property and mail between any point or points in the Republic of Korea and any point or points in the United States, and beyond to any point or points in a third country or countries; and (3) other charter foreign air transportation.

Docket Number: DOT-OST-2015-0014.

Date Filed: February 2, 2015.

Due Date for Answers, Conforming Applications, or Motion to Modify Scope: February 23, 2015.

Description: Application of LIMA NY Corp. requesting authority to engage in scheduled passengers operations as a commuter air carrier operating daily service between the East Hampton Airport and New York Skyports in New York City, New York.

Docket Number: DOT-OST-1999-6663 and DOT-OST-2011-0076.

Date Filed: February 2, 2015.

Due Date for Answers, Conforming Applications, or Motion to Modify Scope: February 23, 2015.

Description: Application of United Parcel Service Co. (“UPS”) requesting the Department amend its certificate to include authority to operate scheduled foreign air transportation of property and mail between IAH and MTY. UPS also requests exemption authority pursuant to the Department's streamlined licensing procedures, in order to commence this service while the Department considers its certificate amendment request.

Barbara J. Hairston,
Supervisory Dockets Officer, Docket Operations, Federal Register Liaison.

[FR Doc. 2015-05892 Filed 3-13-15; 8:45 am]

BILLING CODE 4910-9X-P